OFFICE OF MANAGEMENT AND BUDGET

Revision of OMB Circular No. A-119, “Federal Participation in the Development and Use of Voluntary Consensus Standards and in Conformity Assessment Activities”

AGENCY: Office of Management and Budget, Executive Office of the President.

ACTION: Notice of availability.

SUMMARY: The Office of Management and Budget (OMB) has revised Circular A-119, “Federal Participation in the Development and Use of Voluntary Consensus Standards and in Conformity Assessment Activities,” in light of changes that have taken place in the world of regulation, standards, and conformity assessment since the Circular was last revised in 1998. The revised Circular is available at http://www.whitehouse.gov/omb/inforeg_infopoltech.

DATES: Effective upon publication as of January 27, 2016, OMB is making revised Circular A-119 available to the public.

FOR FURTHER INFORMATION CONTACT: Jasmeet Seehra, Office of Management and Budget, Office of Information and Regulatory Affairs, at CircularA-119@omb.eop.gov.

SUPPLEMENTARY INFORMATION: Public Law 104-113, the “National Technology Transfer and Advancement Act of 1995,” codified the existing policies in A-119, “Federal Participation in the Development and Use of Voluntary Consensus Standards and in Conformity Assessment Activities,” established reporting requirements, and authorized the National Institute of Standards and Technology to coordinate conformity assessment activities of the agencies. In 1998, OMB revised the Circular in order to make the terminology of the Circular consistent with the National Technology Transfer and Advancement Act of 1995, to issue guidance to the agencies on making their reports to OMB, to direct the Secretary of Commerce to issue policy guidance for conformity assessment, and to make changes for clarity.

OMB has issued a revision of Circular A-119 in light of changes that have taken place in the world of regulation, standards, and conformity assessment since the Circular was last revised in 1998. The revised Circular is available at http://www.whitehouse.gov/omb/inforeg_infopoltech. OMB's revisions are meant to provide more detailed guidance to agencies to take into account several issues, including the Administration's current work in Open Government, developments in regulatory policy and international trade, and changes in technology.

Howard Shelanski,
Administrator, Office of Information and Regulatory Affairs.

[FR Doc. 2016-01606 Filed 1-26-16; 8:45 am]

BILLING CODE P